DEPARTMENT OF COMMERCE

National Oceanic and Atmospheric Administration

Agency Information Collection Activities; Submission to the Office of Management and Budget (OMB) for Review and Approval; Comment Request; Reporting Requirements for Commercial Fisheries Authorization Under Section 118 of the Marine Mammal Protection Act

AGENCY: National Oceanic and Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 19, 2022.

ADDRESSES: Interested persons are invited to submit written comments to Adrienne Thomas, NOAA PRA Officer, at Adrienne.thomas@noaa.gov. Please reference OMB Control Number 0648-0292 in the subject line of your comments. Do not submit Confidential Business Information or otherwise sensitive or protected information.

FOR FURTHER INFORMATION CONTACT: Requests for additional information or specific questions related to collection activities should be directed to Jaclyn Taylor, NOAA National Marine Fisheries Service, Office of Protected Resources, 1315 East-West Highway, Silver Spring, MD 20910; (301) 427-8402; or Jaclyn.Taylor@noaa.gov.

SUPPLEMENTARY INFORMATION:

I. Abstract

This request is for an extension of a currently approved information collection and is sponsored by National Marine Fisheries Service Office of Protected Resources.

The Marine Mammal Protection Act (16 U.S.C. 1361 et seq.; MMPA or the Act) mandates the protection and conservation of marine mammals and makes the taking of marine mammals, except under limited exceptions, a violation of the Act. MMPA section 118 provides an exception to that prohibition for taking of marine mammals incidental to commercial fishing operations subject to requirements listed in that section. The owner of any fishing vessel engaged in any fishery identified by the National Marine Fisheries Service (NMFS) as having either frequent (Category I) or occasional (Category II) takes of a marine mammal is to register with the Secretary of Commerce (Secretary) in order to obtain an authorization for the purpose of lawfully, incidentally taking marine mammals. Fishers operating in fisheries identified by NMFS as having only a remote chance (Category III) of taking marine mammals need not register for such an authorization.

The owner or operator of a commercial fishing vessel, regardless of the classification of the fishery, is required under the Act to report all incidental mortality and injury of marine mammals in the course of commercial fishing operations. Supplying the information within 48-hours after the end of a fishing trip is mandated under Section 118(e) of the MMPA and is needed by NMFS to determine the correct category placement for fisheries. MMPA section 118(c) requires NMFS to reexamine the classification of fisheries based on information gathered under the MMPA, including these injury and mortality reports from fishermen.

Minor revisions are being made to the form to clarify the instructions for completing the “Description of the mortality/injury incident” (DESCRIPTION OF UNKNOWN SPECIES OR CIRCUMSTANCES OF MORTALITY/INJURY INCIDENT field) and the “Coast Guard document number” (COAST GUARD DOCUMENT NO. or VESSEL'S STATE REGISTRATION NO field).

II. Method of Collection

Respondents have a choice of either electronic or paper forms. Methods of submittal include online forms, email of electronic or scanned forms, mail and facsimile transmission of paper forms.

III. Data

OMB Control Number: 0648-0292.

Form Number(s): None.

Type of Review: Regular submission (extension of currently approved collection).

Affected Public: Business or other for-profit organizations; Individuals or households; State, local, or tribal government.

Estimated Number of Respondents: 200.

Estimated Time per Response: 15 minutes.

Estimated Total Annual Burden Hours: 50.

Estimated Total Annual Cost to Public: $0.

Respondent's Obligation: Mandatory.

Legal Authority: 16 U.S.C. 1387 Sec. 118.

IV. Request for Comments

We are soliciting public comments to permit the Department/Bureau to: (a) evaluate whether the proposed information collection is necessary for the proper functions of the Department, including whether the information will have practical utility; (b) evaluate the accuracy of our estimate of the time and cost burden for this proposed collection, including the validity of the methodology and assumptions used; (c) evaluate ways to enhance the quality, utility, and clarity of the information to be collected; and (d) minimize the reporting burden on those who are to respond, including the use of automated collection techniques or other forms of information technology.

Comments that you submit in response to this notice are a matter of public record. We will include or summarize each comment in our request to OMB to approve this Information Collection Request. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-15350 Filed 7-18-22; 8:45 am]

BILLING CODE 3510-22-P